DEPARTMENT OF THE INTERIOR

Geological Survey

Notice of an Open Meeting of the Advisory Committee on Water Information (ACWI)

SUMMARY: Notice is hereby given of the 2008 annual meeting of the ACWS. This meeting is to discuss broad policy topics relating to National water initiatives; and the development and dissemination of water information, through reports from the eight ACWS subgroups. The agenda will include an update on the three pilot studies of the National Water Quality Monitoring Network for U.S. Coastal Waters and their Tributaries and the first report from the Subcommittee on Ground Water on a National Ground Water Framework, as well as other water initiatives.

The ACWI has been established under the authority of the Office of Management and Budget Memorandum No. M-92-01 and the Federal Advisory Committee Act. The purpose of this Presidential Committee is to represent the interests of water-information users and professionals in advising the Federal Government on Federal water-information programs and their effectiveness in meeting the Nation's water-information needs. Member organizations help to foster communications between the Federal and non-government sectors on sharing water information.

Membership represents a wide range of water resources interests and functions. Representation on the ACWI includes all levels of government, academia, private industry, and professional and technical societies. Member organizations designate their representatives and alternates. Membership is limited to a maximum of 35 organizations.

DATES: The formal meeting will convene at 8:30 a.m. on February 20, 2008, and will adjourn on February 21, 2008 at 4:30 p.m.

ADDRESSES: Crowne Plaza Dulles Airport, 2200 Centreville Road, Herndon, Virginia 20170.

FOR FURTHER INFORMATION CONTACT: Ms. Toni M. Johnson (Executive Secretary), Chief, Water Information Coordination Program, U.S. Geological Survey, 12201 Sunrise Valley Drive, MS 417 National Center, Reston, VA 20192. Telephone: 703-648-6810, Fax: 703-648-5644, e-mail tjohnson@usgs.gov.

SUPPLEMENTARY INFORMATION: This meeting is open to the public. Up to a half hour will be set aside for public comment. Persons wishing to make a brief presentation (up to 5 minutes) are asked to provide a written request with a description of the general subject to Ms. Johnson at the above address no later than noon, February 15, 2008. It is requested that 65 copies of a written statement be submitted at the time of the meeting for distribution to members of the ACWI and placement in the official file. Any member of the public may submit written information and (or) comments to Ms. Johnson for distribution at the ACWI meeting.

Dated: February 6, 2008.
Katherine Lins,
Chief, Office of Water Information.

[FR Doc. 08-613 Filed 2-12-08; 8:45 am]

BILLING CODE 4311-AM-M